DEPARTMENT OF TRANSPORTATION

Federal Aviation Administration

Notice of Public Availability of the Final Environmental Assessment (EA) and Finding of No Significant Impact/Record of Decision (FONSI/ROD) Signed August 2, 2010, for the Evaluation of the Potential Environmental Impacts Associated With the Proposed Relocation of the Bowman County Airport (Airport) in Bowman County, ND.

AGENCY: Federal Aviation Administration (FAA), Department of Transportation (DOT).

ACTION: Notice of availability of a final EA and FONSI/ROD for the evaluation of the potential environmental impacts associated with the proposed relocation of the Bowman County Airport in Bowman County, North Dakota.

SUMMARY: The FAA has made available the final EA and FONSI/ROD for the proposed relocation of the Bowman County Airport. The EA was prepared in accordance with the National Environmental Policy Act (NEPA) of 1969, as amended, FAA Orders 1050.1E, “Environmental Impacts: Policies and Procedures” and FAA Order 5050.4B, “NEPA Implementing Instructions for Airport Actions.”

Point of Contact: Ms. Patricia Dressler, Environmental Protection Specialist, FAA Bismarck ADO, Building 23B, 2301 University Drive, Bismarck, North Dakota 58504. Telephone number (701) 323-7380.

SUPPLEMENTARY INFORMATION: The FAA has issued a final EA and FONSI/ROD that evaluated the potential environmental impacts associated with the proposed relocation of the Bowman County Airport located in Bowman County, North Dakota. Based on the analysis contained in the final EA, the FAA has determined that the selected alternative has no associated significant impacts to resources identified in accordance with FAA Order 1050.1E, Environmental Impacts: Policies and Procedures and FAA Order 5054.4B, National Environmental Policy Act Implementing Instructions for Airport Actions. Therefore, no environmental impact statement will be prepared. The current Bowman County Airport has deficiencies in meeting current and future large aircraft demand (60, 000 pounds or less with 75 percent of these large aircraft at 60 percent useful load), the Runway Protection Zone, Runway Objective Free Area, wind coverage, and surrounding incompatible land use. Eight alternatives were studied for airspace feasibility and meeting the purpose and need. Five of the eight alternatives (three on site and two new locations) were reviewed, analyzed, and discarded due to the degree of environmental impacts or not meeting airspace requirements. A detailed discussion is in the Alternatives Discarded Section of the FONSI/ROD. The selected alternative is one of three (a no action and two off site locations) considered in the final EA. The selected alternative consists of addressing the identified deficiencies and relocating the Bowman County Airport. The new airport location is approximately 3.5 miles east of Bowman and just south of US Highway 12. The Bowman County Airport Authority will construct, operate, and maintain the new airport. Decommissioning of the existing airport will occur upon activation of the new airport. The selected alternative includes the: (1) Unconditional approval of the Airport Layout Plan (ALP) for the development listed in the EA and the decision document. (2) Issue final airspace determinations for the development on the ALP. (3) Eligibility for Federal grants-in-aid funds for eligible items. (4) FAA Finding of “No Historic Properties Affected” for the proposed action. (5) FAA Finding of “No Effect” to threatened and endangered species. (6) FAA Finding of “No Impact” to floodplains. (7) Wetland finding that there is no practicable alternative to such construction and the proposed action includes all practicable measures to minimize harm to wetlands. (8) Environmental clearance for disposal of land no longer needed for airport purposes. (9) Appropriate permits and mitigation will be needed before disbursing Federal funds.

These documents will be available for public review during normal business hours at Bldg. 23B, FAA Bismarck ADO, 2301 University Drive, Bismarck, North Dakota, Bowman Regional Public Library, 18 East Divide Street, Bowman, ND 58623, and at the Bowman County Airport Authority, 14686 Highway 12, Bowman, ND 58623.

Issued in Bismarck, North Dakota, August 2, 2010.
Steve Obenauer,
Manager, Bismarck Airport District Office FAA, Great Lakes Region.

[FR Doc. 2010-19920 Filed 8-11-10; 8:45 am]

BILLING CODE 4910-13-P